DEPARTMENT OF TRANSPORTATION

Federal Aviation Administration

14 CFR Part 71

[Docket No. FAA-2018-0632; Airspace Docket No. 17-AWA-4]

RIN 2120-AA66

Amendment of Chicago Class B and Chicago Class C Airspace; Chicago, IL

AGENCY: Federal Aviation Administration (FAA), DOT.

ACTION: Final rule, technical amendment.

SUMMARY: This action incorporates this amendment into FAA Order 7400.11C for a final rule published in the Federal Register of August 16, 2018, for the above titled, Amendment of Chicago Class B and Chicago Class C Airspace; Chicago, IL.

DATES: Effective date: 0901 UTC, October 11, 2018. The Director of the Federal Register approves this incorporation by reference action under Title 1 Code of Federal Regulations part 51, subject to the annual revision of FAA Order 7400.11 and publication of conforming amendments.

ADDRESSES: FAA Order 7400.11C, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11C at NARA, call (202) 741-6030, or go to https://www.archives.gov/federal-register/cfr/ibr-locations.html.

FAA Order 7400.11, Airspace Designations and Reporting Points, is published yearly and effective on September 15.

FOR FURTHER INFORMATION CONTACT: Colby Abbott, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it makes the necessary updates for airspace areas within the National Airspace System.

History

The FAA published a final rule in the Federal Register for Docket No. FAA-2018-0632 (83 FR 40662, August 16, 2018), amending the Chicago Class B and Chicago Class C airspace in Chicago, IL. The amendment was published under Order 7400.11B (dated August 3, 2017, and effective September 15, 2017), but became effective under Order 7400.11C (dated August 13, 2018, and effective September 15, 2018). This action incorporates this rule into the current FAA Order 7400.11C.

Class B airspace designations are published in paragraph 3000 and Class C airspace designations are published in paragraph 4000 of FAA Order 7400.11C, dated August 13, 2018, and effective September 15, 2018, which is incorporated by reference in 14 CFR 71.1. The Class B and Class C airspace designations listed in this document will be subsequently published in the Order.

Availability and Summary of Documents for Incorporation by Reference

This document amends FAA Order 7400.11C, Airspace Designations and Reporting Points, dated August 13, 2018, and effective September 15, 2018. FAA Order 7400.11C is publicly available as listed in the ADDRESSES section of this document. FAA Order 7400.11C lists Class A, B, C, D, and E airspace areas, air traffic service routes, and reporting points.

The Rule

This action amends Title 14 Code of Federal Regulations (14 CFR) part 71 by incorporating this amendment into FAA Order 7400.11C for a final rule published in the Federal Register of August 16, 2018, for the above titled, Amendment of Chicago Class B and Chicago Class C Airspace; Chicago, IL.

Accordingly, as this is an administrative correction to update the final rule amendment into FAA Order 7400.11C, notice and public procedure under 5 U.S.C. 553(b) are unnecessary. Also, to bring this rule and legal description current, I find that good cause exists, under 5 U.S.C. 553(d), for making this amendment effective in less than 30 days.

Regulatory Notices and Analyses

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f),106(g), 40103, 40113, 40120; E.O. 10854, 24 FR 9565, 3 CFR, 1959-1963 Comp., p. 389.

§ 71.1 [Amended]

2. Section 71.1 is revised to read as follows:

For Docket No. FAA-2018-0632; Airspace Docket No. 17-AWA-4 (83 FR 40662, August 16, 2018). On page 40662, column 3, line 59, and page 40663, column 1, line 10, under ADDRESSES; and on page 40663, column 2, line 15, and line 17, under Availability and Summary of Documents for Incorporation by Reference remove “. . . FAA Order 7400.11B . . .” and add in its place “. . . FAA Order 7400.11C . . .”.

On page 40663, column 1, line 66, under History remove “. . . FAA Order 7400.11B dated August 3, 2017, and effective September 15, 2017, . . .” and add in its place “. . . FAA Order 7400.11C dated August 13, 2018, and effective September 15, 2018 . . .”.

On page 40663, column 2, line 12, under Availability and Summary of Documents for Incorporation by Reference; and on page 40664, column 1, line 22, under Amendatory Instruction 2 remove “. . . FAA Order 7400.11B, Airspace Designations and Reporting Points, dated August 3, 2017, and effective September 15, 2017, . . .” and add in its place “. . . FAA Order 7400.11C, Airspace Designations and Reporting Points, dated August 13, 2018, and effective September 15, 2018, . . .”.

Issued in Washington, DC, on October 5, 2018.
Rodger A. Dean Jr.,
Manager, Airspace Policy Group.

[FR Doc. 2018-22193 Filed 10-10-18; 8:45 am]

BILLING CODE 4910-13-P